NATIONAL SCIENCE FOUNDATION

Advisory Committee for Small Business Industrial Innovation, Committee of Visitors; Notice of Meeting

In accordance with the Federal Advisory Committee Act (Pub. L. 92-463, as amended), the National Science Foundation announces the following meeting:

Name: Advisory Committee for Small Business Industrial Innovation, Committee of Visitors (61).

Date/Time: July 25-27, 2000—8:30 a.m.-5:00 p.m. each day.

Place: Room 365, NSF, 4201 Wilson boulevard, Arlington, VA.

Type of Meeting: Part-Open—(see Agenda, below).

Contact Person: Dr. Kesh Narayanan, Acting Division Director for Design, Manufacture, and Industrial Innovation, National Science Foundation, 4201 Wilson Boulevard, Arlington, VA 22230. Telephone: (703) 306-1330.

Purpose of Meeting: To carry out Committee of Visitors (COV) review, including program evaluation, GPRA assessments, and access to privileged materials.

Agenda

Closed: July 25 and 26 from 8:30-5:00 each day—To review the merit review processes covering funding decisions made during the immediately preceding three fiscal years of the Design, Manufacture, and Industrial Innovation Programs.

Open: July 27 from 8:30-5:00—To assess the results of NSF program investments in the Design, Manufacture, and Industrial Innovation Division. This shall involve a discussion and review of results focused on NSF and grantee outputs and related outcomes achieved or realized during the preceding three fiscal years. These results may be based on NSF grants or other investments made in earlier years.

Reason for Closing: During the closed session, the Committee will be reviewing proposal actions that will include information of a proprietary or confidential nature, including technical information; financial data, such as salaries, and personal information concerning individuals associated with the proposals. These matters are exempt under 5 U.S.C. 552b(c), (4) and (6) of the Government in the Sunshine Act.

Dated: June 27, 2000.
Karen J. York,
Committee Management Officer.

[FR Doc. 00-16652 Filed 6-29-00; 8:45 am]

BILLING CODE 7555-01-M